DEPARTMENT OF TRANSPORTATION

Federal Aviation Administration

Notice Before Waiver With Respect to Land at Elmira/Corning Regional Airport, Elmira, New York

AGENCY: Federal Aviation Administration (FAA), DOT.

ACTION: Notice of intent of waiver with respect to land.

SUMMARY: The FAA is publishing notice of the proposed release of approximately 25 acres of land at Elmira/Corning Regional Airport to allow its sale for the development of commercial retail stores. There are no impacts to the Airport and the land is not needed for airport development as shown on the Airport Layout Plan. The Fair Market Value of the land will be paid to the Airport Sponsor, and used for capital development of the airport.

Any comments the agency receives will be considered as a part of the decision.

DATES: Comments must be received on or before December 20, 2000.

ADDRESSES: Comments on this application may be mailed or delivered in triplicate to the FAA at the following address: Philip Brito, Manager, FAA New York Airports District Office, 600 Old Country Road, Suite 446, Garden City, New York 11530.

In addition, one copy of any comments submitted to the FAA must be mailed or delivered to Ms. Ann L. Clarke, Airport Manager, Elmira/Corning Regional Airport, at the following address: Ms. Ann L. Clarke, Airport Manager, Elmira Corning Regional Airport, Suite 1, 276 Sing Sing Road, Horseheads, New York 14845.

FOR FURTHER INFORMATION CONTACT: Mr. Philip Brito, Manager, New York Airports District Office, 600 Old Country Road, Suite 446, Garden City, New York 11530; telephone (516) 227-3803; FAX (516) 227-3813; E-Mail Philip.Brito@faa.gov.

SUPPLEMENTARY INFORMATION: On April 5, 2000, new authorizing legislation became effective. That bill, the Wendell H. Ford Aviation Investment and Reform Act for the 21st Century, Public Law 106-181 (Apr. 5, 2000; 114 Stat. 61) (AIR 21) requires that a 30 day public notice must be provided before the Secretary may waive any condition imposed on an interest in surplus property.

Issued in Garden City, New York, on October 3, 2000.
Philip Brito,
Manager, New York Airports District Office, Eastern Region.

[FR Doc. 00-29576 Filed 11-17-00; 8:45 am]

BILLING CODE 4910-13-M